DEPARTMENT OF TRANSPORTATION

Federal Aviation Administration

14 CFR Part 73

[Docket No. FAA-2019-0094; Airspace Docket No. 15-AWP-17]

RIN 2120-AA66

Proposed Establishment of Restricted Area R-7202; Guam, GU

AGENCY: Federal Aviation Administration (FAA), DOT.

ACTION: Notice of proposed rulemaking (NPRM).

SUMMARY: This action proposes to establish restricted area R-7202 on the island of Guam, GU. With the relocation of United States Marine Corps (USMC) forces from Okinawa, Japan to Guam, there is a requirement to establish a safe and effective area for live-fire small arms weapons training. The proposed restricted area would provide the protection required to contain these hazardous activities and the weapons safety footprints for the ordnance to be used within the proposed airspace. No hazardous aviation activities will be authorized in this area.

DATES: Comments must be received on or before April 19, 2019.

ADDRESSES: Send comments on this proposal to the U.S. Department of Transportation, Docket Operations, 1200 New Jersey Avenue SE, West Building Ground Floor, Room W12-140, Washington, DC 20590-0001; telephone: 1 (800) 647-5527, or (202) 366-9826. You must identify FAA Docket Number FAA-2019-0094; Airspace Docket No. 15-AWP-17 at the beginning of your comments. You may also submit comments through the internet at http://www.regulations.gov.

FOR FURTHER INFORMATION CONTACT: Kenneth Ready, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would establish restricted airspace at Guam, GU, to contain activities deemed hazardous to nonparticipating aircraft.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket Number FAA-2019-0094; Airspace Docket No. 15-AWP-17) and be submitted in triplicate to the Docket Management Facility (see ADDRESSES section for address and phone number). You may also submit comments through the internet at http://www.regulations.gov.

Commenters wishing the FAA to acknowledge receipt of their comments on this action must submit with those comments a self-addressed, stamped postcard on which the following statement is made: “Comments to FAA Docket Number FAA-2019-0094; Airspace Docket No. 15-AWP-17.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at http://www.regulations.gov. Recently published rulemaking documents can also be accessed through the FAA's web page at http://www.faa.gov/air_traffic/publications/airspace_amendments/.

You may review the public docket containing the proposal, any comments received and any final disposition in person in the Dockets Office (see ADDRESSES section for address and phone number) between 9:00 a.m. and 5:00 p.m., Monday through Friday, except federal holidays. An informal docket may also be examined during normal business hours at the office of the Western Service Center, Operations Support Group, Federal Aviation Administration, 2200 South 216th St., Des Moines, WA 98198.

Background

In 2007 U.S. Pacific Command (PACOM) designated Commander, US Pacific Fleet as the executive agent of the development of the consolidated Department of Defense (DoD) Special Use Airspace (SUA) proposal for the USMC relocation to Guam. A DoD working group began active discussions with the FAA. Since November 2007, the working group and the FAA have coordinated on air traffic control issues, SUA proposal integration, and International Civil Aviation Organization (ICAO) rules. In an effort to reduce redundancies by the DoD while seeking SUA throughout the Commonwealth of the Northern Mariana Islands (CNMI) and Guam, PACOM submitted a consolidated DoD SUA Proposal.

While some of the specific SUA will be primarily used by one uniformed service over others, it is the intent that all of the proposed airspace actions will be used by all forward deployed PACOM forces. This will create the smallest footprint and allow for joint use of each type of airspace, posing the least impact to the airspace for all other users. The proposal was divided into four sub-phases outlining different airspace requirements. The second phase (Phase 2) consists of the creation of restricted airspace on the northern portion of Guam, to be designated as R-7202. The proposed R-7202 airspace is needed in order to contain vertical hazards associated with the creation of USMC Live-Fire Training Range Complex (LFTRC).

This proposed SUA activities would allow training to proceed on a scale, from small-scale and individual-level training in basic military skills to large-scale training involving a Marine Air Ground Task Force and/or joint forces. Live-fire training events are critical to preparing for combat at each level of training. Currently, the Using Agency does not have sufficient range and special use airspace space to conduct the live-fire training required.

Through analysis and a series of studies, proposed R-7202 has been identified as the only feasible area capable of supporting this level of training for USMC forces in the region. Failure to establish live-fire ranges supported by R-7202 would result in the inability to train and maintain combat readiness skills for Marines. These skills are critical to supporting USMC readiness for real world operations. Activities conducted within the proposed restricted area include live-fire from pistols, rifles, and machine guns. No existing SUA within CNMI accommodates the identified types of activities. The activities within the proposed establishment of R-7202 are to meet the overall training objectives of the DoD.

The Proposal

The FAA is proposing an amendment to Title 14 Code of Federal Regulations (14 CFR) part 73 to establish R-7202 Guam, GU. The FAA is proposing this action at the request of the USMC. The proposed restricted areas are described below.

R-7202 would be established on the northern tip of Guam and northwest of Anderson Air Force Base (AFB) abutting the Anderson AFB Class D. The altitudes would be from the surface to 4,900 feet MSL.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 73

Airspace, Prohibited areas, Restricted areas.

The Proposed Amendment

In consideration of the foregoing, the Federal Aviation Administration proposes to amend 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.72 Guam [Amended]

2. § 73.72 is amended as follows:

* * * * *

R-7202 Guam, GU [New]

Boundaries. Beginning at lat. 13°38′25″ N, long. 144°51′39″ E; to lat. 13°39′37″ N, long. 144°51′03″ E; to lat. 13°41′02″ N, long. 144°51′32″ E; to lat. 13°41′52″ N, long. 144°52′48″ E; to lat. 13°41′17″ N, long. 144°53′55″ E; to lat. 13°39′47″ N, long. 144°53′55″ E; to lat. 13°38′50″ N, long. 144°53′10″ E; to lat. 13°38′29″ N, long. 144°52′54″ E; to lat. 13°38′29″ N, long. 144°52′51″ E; to lat. 13°38′08″ N, long. 144°52′37″ E; to lat. 13°38′03″ N, long. 144°52′20″ E; to the point of beginning.

Designated altitudes. Surface to 4,900 feet MSL.

Time of designation. 0600-2200 local time, daily—other times by NOTAM.

Controlling Agency. FAA Guam Combined Air Route Traffic Control Center/Radar Approach Control (CERAP).

Using Agency. U.S. Marine Corps, Commanding Officer, Marine Corps Base (MCB) Guam.

* * * * *

Issued in Washington, DC, on February 27, 2019.
Rodger A. Dean Jr.,
Manager, Airspace Policy Group.

[FR Doc. 2019-03931 Filed 3-4-19; 8:45 am]

BILLING CODE 4910-13-P